DEPARTMENT OF ENERGY

Federal Energy Regulatory Commission

18 CFR Part 11

[Docket No. RM05-3-000]

Update of the Federal Energy Regulatory Commission's Fees Schedule for Annual Charges for the Use of Government Lands

December 3, 2004.

AGENCY: Federal Energy Regulatory Commission, DOE.

ACTION: Final rule; update of Federal land use fees.

SUMMARY: In accordance with the Commission's regulations, the Commission by its designee, the Executive Director, is updating its schedule of fees for the use of government lands. The yearly update is based on the most recent schedule of fees for the use of linear rights-of-way prepared by the United States Forest Service. Since the next fiscal year will cover the period from October 1, 2004 through September 30, 2005 the fees in this notice will become effective October 1, 2004. The fees will apply to fiscal year 2005 annual charges for the use of government lands.

The Commission has concluded, with the concurrence of the Administrator of the Office of Information and Regulatory Affairs of OMB that this rule is not a “major rule” as defined in section 251 of the Small Business Regulatory Enforcement Fairness Act of 1996, 5 U.S.C 804(2).

DATES: Effective Date: October 1, 2004.

FOR FURTHER INFORMATION CONTACT: Fannie Kingsberry, Division of Financial Services, Office of the Executive Director, Federal Energy Regulatory Commission, 888 First Street, NE., Washington, DC 20426; (202) 502-6108.

SUPPLEMENTARY INFORMATION: Document Availability: In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

From FERC's Home Page on the Internet, this information is available in the eLibrary (formerly FERRIS). The full text of this document is available on eLibrary in PDF and MSWord format for viewing, printing, and/or downloading. To access this document in eLibrary, type the docket number excluding the last three digits of this document in the docket number field.

User assistance is available for eLibrary and the FERC's Web site during normal business hours by contacting FERC Online Support by telephone at (866) 208-3676 (toll free) or for TTY, (202) 502-8659, or by e-mail at FERCOnlineSupport@ferc.gov.

List of Subjects in 18 CFR Part 11

Electric power, Reporting and recordkeeping requirements.

Thomas R. Herlihy,
Executive Director, Office of the Executive Director.

Accordingly, the Commission, effective October 1, 2004, amends part 11 of chapter I, Title 18 of the Code of Federal Regulations, as follows:

PART 11—[AMENDED]

1. The authority citation for part 11 continues to read as follows:

Authority: 16 U.S.C. 791a-825r; 42 U.S.C. 7101-7352.

2. In part 11, Appendix A is revised to read as follows.

Appendix A to Part 11—Fee Schedule for FY 2005

State | County | (Fee/acre/yr)
Alabama | All Counties | $27.23
Arkansas | All Counties | 20.43
Arizona | Apache | 6.79
| Cochise
| Gila
| Graham
| La Paz
| Mohave
| Navajo
| Pima
| Yavapai
| Yuma
| Coconino (North of Colorado R.)
| Coconino (South of Colorado R.) | 27.23
| Greenlee
| Maricopa
| Pinal
| Santa Cruz
California | Imperial | 13.61
| Inyo
| Lassen
| Modoc
| Riverside
| San Bernardino
| Siskiyou | 20.43
| Alameda | 34.03
| Alpine
| Amador
| Butte
| Calaveras
| Colusa
| Contra Costa
| Del Norte
| El Dorado | 34.03
| Fresno
| Glenn
| Humboldt
| Kern
| Kings
| Lake
| Madera
| Mariposa
| Mendicino
| Merced
| Mono
| Napa
| Nevada
| Placer
| Plumas
| Sacramento
| San Benito
| San Joaquin
| Santa Clara
| Shasta
| Sierra
| Solano
| Sonoma
| Stanislaus
| Sutter
| Tehama
| Trinity
| Tulare Kings
| Tuolumne
| Yolo
| Yuba
| Los Angeles | 40.86
| Marin
| Monterey
| Orange
| San Diego
| San Francisco
| San Luis Obispo
| San Mateo
| Santa Barbara
| Santa Cruz
| Ventura
Colorado | Adams | 6.79
| Arapahoe
| Bent
| Cheyenne
| Crowley
| Elbert
| El Paso
| Huerfano
| Kiowa
| Kit Carson
| Lincoln
| Logan
| Moffat
| Montezuma
| Morgan
| Pueblo
| Sedgewick
| Washington
| Weld
| Yuma
| Baca | 13.61
| Bloomfield
| Dolores
| Garfield
| Las Animas
| Mesa
| Montrose
| Otero
| Prowers
| Rio Blanco
| Routt
| San Miguel
| Alamosa | 27.23
| Archuleta
| Boulder
| Chaffee
| Clear Creek
| Conejos
| Costilla
| Custer
| Denver
| Delta
| Douglas
| Eagle | 27.23
| Fremont
| Gilpin
| Grand
| Gunnison
| Hinsdale
| Jackson
| Jefferson
| Lake
| La Plata
| Larimer
| Mineral
| Ouray
| Park
| Pitkin
| Rio Grande
| Saguache
| San Juan
| Summit
| Teller
Connecticut | All Counties | 6.79
Florida | Baker | 40.86
| Bay
| Bradford
| Calhoun
| Clay
| Columbia
| Dixie
| Duval
| Escambia
| Franklin
| Gadsden
| Gilchrist
| Gulf
| Hamilton
| Holmes
| Jackson
| Jefferson
| Lafayette
| Leon
| Liberty
| Madison
| Nassau
| Okaloosa | 40.86
| Santa Rosa
| Suwannee
| Taylor
| Union
| Wakulla
| Walton
| Washington
| All Other Counties | 68.05
Georgia | All Counties | 40.86
Idaho | Cassia | 6.79
| Gooding
| Jerome
| Lincoln
| Minidoka
| Oneida
| Owyhee
| Power
| Twin Falls
| Ada | 20.43
| Adams
| Bannock
| Bear Lake
| Benewah
| Bingham
| Blaine
| Boise
| Bonner
| Bonneville
| Boundary
| Butte
| Camas
| Canyon
| Caribou
| Clark
| Clearwater
| Custer
| Elmore
| Franklin
| Fremont
| Gem
| Idaho | 20.43
| Kootenai
| Latah
| Lemhi
| Lewis
| Madison
| Nez Perce
| Payette
| Shoshone
| Teton | 20.43
| Valley
| Washington
Illinois | All Counties | 20.43
Indiana | All Counties | 34.03
Kansas | Morton | 13.61
| All Other Counties | 6.79
Kentucky | All Counties | 20.43
Louisiana | All Counties | 40.86
Maine | All Counties | 20.43
Michigan | Alger | 20.43
| Baraga
| Chippewa
| Delta
| Dickinson
| Gogebic
| Houghton
| Iron
| Keweenaw
| Luce
| Macking
| Marquette
| Menominee
| Ontonagon
| Schoolcraft
| All Other Counties | 27.23
Minnesota | All Counties | 20.43
Mississippi | All Counties | 27.23
Missouri | All Counties | 20.43
Montana | Big Horn | 6.79
| Blaine
| Carter
| Cascade
| Chouteau
| Custer
| Daniels
| McCone
| Meagher
| Dawson
| Fallon
| Fergus
| Garfield
| Glacier
| Golden Valley
| Hill
| Judith Basin
| Liberty
| Musselshell
| Petroleum
| Phillips
| Pondera
| Power River
| Prairie
| Richland
| Roosevelt
| Rosebud
| Sheridan
| Teton
| Toole
| Treasure
| Valley
| Wheatland
| Wibaux
| Yellowstone
| Beaverhead | 20.43
| Broadwater
| Carbon
| Deer Lodge | 20.43
| Flathead
| Gallatin
| Granite
| Jefferson
| Lake
| Lewis & Clark
| Lincoln
| Madison
| Mineral
| Missoula
| Park
| Powell
| Ravalli
| Sanders
| Silver Bow
| Stillwater
| Sweet Grass
Nebraska | All Counties | 6.79
Nevada | Churchilll | 3.40
| Clark
| Elko
| Esmeralda
| Eureka
| Humboldt
| Lander
| Lincoln
| Lyon
| Mineral
| Nye
| Pershing
| Washoe
| White Pine
| Carson City | 34.03
| Douglas
| Story
New Hampshire | All Counties | 20.43
New Mexico | Chaves | 6.79
| Curry
| De Baca
| Dona Ana | 6.79
| Eddy
| Grant
| Guadalupe
| Harding
| Hidalgo
| Lea
| Luna
| McKinley
| Otero
| Quay
| Roosevelt
| San Juan
| Socorro
| Torrence
| Rio Arriba | 13.61
| Sandoual
| Union
| Bernalillo | 27.23
| Catron
| Cibola
| Colfax
| Lincoln
| Los Alamos
| Mora
| San Miguel
| Santa Fe
| Sierra
| Taos
| Valencia
New York | All Counties | 27.23
North Carolina | All Counties | 40.86
North Dakota | All Counties | 6.79
Ohio | All Counties | 27.23
Oklahoma | Beaver | 13.61
| Cimarron
| Roger Mills
| Texas
| De Flore | 20.43
| McCurtain
| All Other Counties | 6.79
Oregon | Harney | 6.79
| Lake
| Malheur
| Baker | 13.61
| Crook
| Deschutes
| Gilliam
| Grant
| Jefferson
| Klamath
| Morrow
| Sherman
| Umatilla
| Union
| Wallowa
| Wasco
| Wheeler
| Coos | 20.43
| Curry
| Douglas
| Jackson
| Josephine
| Benton | 27.23
| Clackamas
| Clatsop
| Columbia
| Hood River
| Lane
| Lincoln
| Linn
| Marion
| Multnomah
| Polk
| Tillamook
| Washington
| Yamhill
Pennsylvania | All Counties | 27.23
Puerto Rico | All | 40.86
South Carolina | All Counties | 40.86
South Dakota | Butte | 20.43
| Custer
| Fall river
| Lawrence
| Mead
| Pennington
| All Other Counties | 6.79
Tennessee | All Counties | 27.23
Texas | Culberson | 6.79
| El Paso
| Hudspeth
| All Other Counties | 40.86
Utah | Beaver | 6.79
| Box Elder
| Carbon
| Duchesne
| Emery
| Garfield
| Grand
| Iron
| Juab
| Kane
| Millard
| San Juan
| Tooele
| Uintah
| Wayne
| Washington | 13.61
| Cache | 20.43
| Daggett
| Davis
| Morgan
| Piute
| Rich | 20.43
| Salt Lake
| Sanpete
| Sevier
| Summit
| Utah
| Wasatch
| Weber
Vermont | All Counties | 27.23
Virginia | All Counties | 27.23
Washington | Adams | 13.61
| Asotin
| Benton
| Chelan
| Columbia
| Douglas
| Franklin
| Garfield
| Grant
| Kititas
| Klickitat
| Lincoln
| Okanogan
| Spokane
| Walla Walla
| Whitman
| Yakima
| Ferry | 20.43
| Pend Oreille
| Stevens
| Clallam | 27.23
| Clark
| Cowlitz
| Grays Harbor
| Island
| Jefferson
| King
| Kitsap
| Lewis
| Mason
| Pacific | 27.23
| Pierce
| San Juan
| Skagit
| Skamania
| Snohomish
| Thurston
| Wahkiakum
| Whatcom
West Virginia | All Counties | 27.23
Wisconsin | All Counties | 20.43
Wyoming | Albany | 6.79
| Campbell
| Carbon
| Converse
| Goshen
| Hot Springs
| Johnson
| Laramie
| Lincoln
| Natrona
| Niobrara
| Platte
| Sheridan
| Sweetwater
| Freemont
| Sublette
| Uinta
| Washakie
| Big Horn | 20.43
| Crook
| Park
| Teton
| Weston
All Other Zones |  | 6.06

[FR Doc. 04-27017 Filed 12-8-04; 8:45 am]

BILLING CODE 6717-01-P